ENVIRONMENTAL PROTECTION AGENCY

40 CFR Part 52

[EPA-R09-OAR-2019-0159; FRL-9993-51-Region 9]

Partial Approval, Partial Disapproval and Limited Approval, Limited Disapproval of Arizona Air Plan Revisions, Pinal County Air Quality Control District

AGENCY: Environmental Protection Agency (EPA).

ACTION: Proposed rule.

SUMMARY: The Environmental Protection Agency (EPA) is proposing to partially approve and partially disapprove revisions to the Pinal County Air Quality Control District (PCAQCD) portion of the Arizona State Implementation Plan (SIP). These revisions concern the District's demonstration regarding reasonably available control technology (RACT) requirements and negative declarations for the 2008 8-hour ozone National Ambient Air Quality Standards (NAAQS or “standards”) in the portion of the Phoenix-Mesa ozone nonattainment area under the jurisdiction of the PCAQCD. The EPA is also proposing a limited approval and limited disapproval of two rules PCAQCD submitted with its RACT SIP demonstration. We are proposing action on a local SIP revision under the Clean Air Act (CAA or “Act”). We are taking comments on this proposal and plan to follow with a final action.

DATES: Any comments must arrive by June 12, 2019.

ADDRESSES: Submit your comments, identified by Docket ID No. EPA-R09-OAR-2019-0159 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www.epa.gov/dockets/commenting-epa-dockets.

FOR FURTHER INFORMATION CONTACT: Stanley Tong, EPA Region IX, (415) 947-4122, tong.stanley@epa.gov. EPA Region IX is located at 75 Hawthorne Street, San Francisco, CA 94105-3901.

SUPPLEMENTARY INFORMATION: Throughout this document, “we,” “us” and “our” refer to the EPA.

Table of Contents

I. The State's Submittal

A. What documents did the State submit?

B. Are there other versions of these documents?

C. What is the purpose of the submitted documents?

II. The EPA's Evaluation and Proposed Action

A. How is the EPA evaluating the submitted documents?

B. Do the documents meet the evaluation criteria?

C. What are the deficiencies?

D. EPA Recommendations To Further Improve the RACT SIP and the Submitted Rules

E. Public Comment and Proposed Action

III. Incorporation by Reference

IV. Statutory and Executive Order Reviews

I. The State's Submittal

A. What documents did the State submit?

Table 1 lists the documents addressed by this proposal with the dates that they were adopted by the local air agency and submitted by the Arizona Department of Environmental Quality (ADEQ).

Table 1—Submitted Documents
Local agency | Document | Adopted | Submitted
PCAQCD | Reasonably Available Control Technology (RACT) Analysis, Negative Declaration and Rules Adoption | 11/30/2016 | 2/3/2017
PCAQCD | Chapter 5, Article 13 Surface Coating Operations | 11/30/2016 | 2/3/2017
| 5-13-100, “General”
| 5-13-200, “Definitions”
| 5-13-300, “Standards”
| 5-13-400, “Administrative Requirements”
| 5-13-500, “Monitoring and Records”
| Note: the submittal explicitly excludes 5-13-390 “Spray Paint and Other Surface Coating Operations” (as amended 10/12/95)
PCAQCD | Chapter 5, Article 20 Storage and Loading of Gasoline at Gasoline Dispensing Facilities | 11/30/2016 | 2/3/2017
| 5-20-100 “General”
| 5-20-200 “Definitions”
| 5-20-300 “Standards”
| 5-20-400 “Administrative Requirements”
| 5-20-500 “Monitoring and Records”

On August 3, 2017, the submittals for PCAQCD's RACT SIP, negative declarations, and two rules were deemed by operation of law to meet the completeness criteria in 40 CFR part 51 Appendix V, which must be met before formal EPA review.

B. Are there other versions of these documents?

There are no previous versions of the RACT SIP and negative declarations in the PCAQCD portion of the Arizona SIP for the 2008 8-hour ozone NAAQS. There are no previous versions of Chapter 5, Articles 13 or 20 in the PCAQCD portion of the Arizona SIP.

C. What is the purpose of the submitted documents?

Volatile Organic Compounds (VOCs) and oxides of nitrogen (NOX) help produce ground-level ozone, smog, and particulate matter, which harm human health and the environment. Section 110(a) of the CAA requires states to submit regulations that control VOC and NOX emissions. Sections 182(b)(2) and (f) require that SIPs for ozone nonattainment areas classified as Moderate or above implement RACT for any source covered by a Control Techniques Guidelines (CTG) document and for any major source of VOCs or NOX. The PCAQCD is subject to this requirement as it regulates the Pinal County portion of the Phoenix-Mesa ozone nonattainment area that is currently designated and classified as a Moderate nonattainment area for the 2008 8-hour ozone NAAQS. Therefore, the PCAQCD must, at a minimum, adopt RACT-level controls for all sources covered by a CTG document and for all major non-CTG sources of VOCs or NOX within the ozone nonattainment area that it regulates. Any stationary source that emits or has the potential to emit at least 100 tons per year (tpy) of VOCs or NOX is a major stationary source in a Moderate ozone nonattainment area (CAA section 182(b)(2), (f) and 302(j)).

Section III.D of the preamble to the EPA's final rule to implement the 2008 ozone NAAQS (80 FR 12264, March 6, 2015) discusses RACT requirements. It states in part that RACT SIPs must contain adopted RACT regulations, certifications where appropriate that existing provisions are RACT, and/or negative declarations that no sources in the nonattainment area are covered by a specific CTG. Id. at 12278. It also provides that states must submit appropriate supporting information for their RACT submissions as described in the EPA's implementation rule for the 1997 ozone NAAQS. See Id. and 70 FR 71612, 71652 (November 29, 2005). The submitted RACT SIP (“2016 RACT SIP”) and negative declarations provide PCAQCD's analyses of its compliance with the CAA section 182 RACT requirements for the 2008 8-hour ozone NAAQS. PCAQCD also adopted and submitted for SIP approval the following two rules with its 2016 RACT SIP.

Chapter 5, Article 13 is a new rule that establishes VOC content limits for surface coating operations in the Pinal County portion of the Phoenix-Mesa 8-hour ozone nonattainment area. It contains: Definitions; VOC content limits; various partial exemptions; requirements for coating application methods, cleanup of application equipment, work practices for the handling, disposal and storage of VOC containing materials, and emission control systems; and requirements for monitoring, testing, and recordkeeping.

Chapter 5, Article 20 is a new rule that establishes limits for VOC emissions from gasoline during storage and loading of gasoline at gasoline dispensing facilities. It contains: Definitions; various exemptions; requirements for vapor recovery equipment, general housekeeping, gasoline storage equipment, and gasoline loading operations; and requirements for monitoring, testing, and recordkeeping.

The EPA's technical support document (TSD) has more information about the District's RACT SIP, negative declarations, rules, and the EPA's evaluations thereof.

II. The EPA's Evaluation and Proposed Action

A. How is the EPA evaluating the submitted documents?

SIP rules must require RACT for each category of sources covered by a CTG document as well as each major source of VOCs or NOX in ozone nonattainment areas classified as Moderate or above (CAA section 182(b)(2)). The PCAQCD regulates a Moderate ozone nonattainment area (40 CFR 81.303) so the District's rules must implement RACT.

States should also submit for SIP approval negative declarations for those source categories for which they have not adopted CTG-based regulations (because they have no sources above the CTG-recommended applicability threshold) regardless of whether such negative declarations were made for an earlier SIP.¹ To do so, the submittal should provide reasonable assurance that no sources subject to the CTG requirements currently exist in the portion of the ozone nonattainment area that is regulated by the PCAQCD.

¹ 57 FR 13498, 13512 (April 16, 1992).

The District's analysis must demonstrate that each major source of VOCs or NOX in the ozone nonattainment area is covered by a RACT-level rule. In addition, for each CTG source category, the District must either demonstrate that a RACT-level rule is in place, or submit a negative declaration. Guidance and policy documents that we use to evaluate CAA section 182 RACT requirements include the following:

1. “State Implementation Plans; General Preamble for the Implementation of Title I of the Clean Air Act Amendments of 1990,” 57 FR 13498 (April 16, 1992); 57 FR 18070 (April 28, 1992).

2. EPA Office of Air Quality Planning and Standards, “Issues Relating to VOC Regulation Cutpoints, Deficiencies, and Deviations,” May 25, 1988 (“the Bluebook,” revised January 11, 1990).

3. EPA Region IX, “Guidance Document for Correcting Common VOC & Other Rule Deficiencies,” August 21, 2001 (“the Little Bluebook”).

4. “State Implementation Plans; Nitrogen Oxides Supplement to the General Preamble; Clean Air Act Amendments of 1990 Implementation of Title I; Proposed Rule,” (the NOX Supplement), 57 FR 55620, (November 25, 1992).

5. Memorandum dated May 18, 2006, from William T. Harnett, Director, Air Quality Policy Division, to Regional Air Division Directors, Subject: “RACT Qs & As—Reasonably Available Control Technology (RACT): Questions and Answers.”

6. “Final Rule to Implement the 8-hour Ozone National Ambient Air Quality Standard—Phase 2,” 70 FR 71612 (November 29, 2005).

7. “Implementation of the 2008 National Ambient Air Quality Standards for Ozone: State Implementation Plan Requirements,” 80 FR 12264 (March 6, 2015).

Rules that are submitted for inclusion into the SIP must be enforceable (CAA section 110(a)(2)), must not interfere with applicable requirements concerning attainment and reasonable further progress or other CAA requirements (CAA section 110(l)), and must not modify certain SIP control requirements in nonattainment areas without ensuring equivalent or greater emissions reductions (CAA section 193).

In addition to the documents listed above, guidance and policy documents that we use to evaluate enforceability, stringency, and revision/relaxation requirements include the following:

1. “Design Criteria for Stage I Vapor Control Systems—Gasoline Service Stations,” EPA-450/R-75-102, November 1975.

2. “Control of Volatile Organic Emissions from Existing Stationary Sources—Volume VI: Surface Coating of Miscellaneous Metal Parts and Products,” EPA-450/2-78-015, June 1978.

3. “Control Techniques Guidelines for Miscellaneous Metal and Plastic Parts Coatings,” EPA 453/R-08-003, September 2008.

4. “Model Volatile Organic Compound Rules for Reasonably Available Control Technology,” June 1992.

5. Memorandum dated March 17, 2011, from Scott Mathias, Interim Director, Air Quality Policy Division, U.S. EPA to Regional Air Division Directors, Subject: “Approving SIP Revisions Addressing VOC RACT Requirements for Certain Coatings Categories.”

B. Do the documents meet the evaluation criteria?

PCAQCD's 2016 RACT SIP provides the District's demonstration that the applicable SIP for the PCAQCD satisfies CAA section 182 RACT requirements for the 2008 8-hour ozone NAAQS. This conclusion is based on the District's analysis of SIP-approved requirements that apply to the following: (1) Source categories for which a CTG has been issued, and (2) major non-CTG stationary sources of VOC or NOX emissions.

With respect to CTG source categories, PCAQCD determined that it only had sources subject to the CTGs covering surface coatings and gasoline service stations. PCAQCD submitted for SIP approval two rules to implement RACT for these categories: Chapter 5, Article 13 Surface Coating Operations, and Chapter 5, Article 20 Storage and Loading of Gasoline at Gasoline Dispensing Facilities. We find that these rules meet the enforceability, stringency, and SIP relaxation/revision requirements, with the exception of a number of identified deficiencies. Specifically, we find that Article 13 largely incorporates the VOC content limits from Table 2 of the 2008 Miscellaneous Metal and Plastic Parts (MMPP) Coatings CTG. However, Article 13 does not contain all of the recommended metal parts coating categories from the CTG, it allows some exemptions not found in the CTG, and it does not address recommended categories and limits in Tables 3 through 6 of the MMPP CTG. We also find that Article 20 needs to be strengthened to correct an enforceability issue. These approvability issues preclude full approval of these two rules. In spite of these deficiencies, inclusion of these two rules would substantially strengthen the SIP because the SIP does not currently contain rules covering these sources. Our TSD has more information about our evaluation of Articles 13 and 20.

Where there are no existing sources covered by a particular CTG document, or no major non-CTG sources, states may, in lieu of adopting RACT requirements for those sources, adopt negative declarations certifying that there are no such sources in the relevant nonattainment area. Appendix C of the 2016 RACT SIP lists the District's negative declarations where it has no sources subject to the applicable CTG for the 2008 8-hour ozone NAAQS. These negative declarations are re-listed in Table 2 below. The District concludes that it has no sources subject to the CTGs based on a review of its permit files and emission inventory as well as business listings and county planning records.

In addition, the 2016 RACT SIP states “[t]here is one Title V (i.e., major source) in the Pinal County portion of the nonattainment area which is a landfill . . . [and the] facility is currently subject to the 40 CFR part 60, subpart WWW Standards of Performance (NSPS) for Municipal Solid Waste Landfills and the 40 CFR part 63, subpart AAAA National Emission Standards for Hazardous Air Pollutants (NESHAP) for Municipal Waste Landfills.” Appendix A of the 2016 RACT SIP indicates this landfill has a potential to emit of 15.1 tpy of VOC. As described in more detail in our TSD, this landfill has a potential to emit less than 100 tpy of VOC and thus is not a major source. The District is therefore not required to demonstrate that this source is implementing RACT-level controls.

We reviewed PCAQCD's list of permitted facilities and list of negative declarations in the 2016 RACT SIP Appendices A and C, respectively. We also searched the EPA's National Emissions Inventory for 2011 and 2014 to verify the District's conclusion that it has no stationary sources subject to the CTG source categories for which it has adopted a negative declaration. We agree with the District's negative declarations in the 2016 RACT SIP Appendix C. However, our review found that the cutback asphalt CTG and certain sections of the MMPP CTG were not addressed by either a negative declaration or a RACT rule. Also, the District must adopt negative declarations for major VOC and major NOX sources since available data shows the District does not have stationary sources in the ozone nonattainment area that emit at least 100 tpy. These approvability issues preclude full approval of the 2016 RACT SIP. Our TSD has more information on our evaluation of the 2016 RACT SIP.

Table 2—PCAQCD Negative Declarations
EPA document No. | Title
EPA-450/2-77-008 | Surface Coating of Cans.
EPA-450/2-77-008 | Surface Coating of Coils.
EPA-450/2-77-008 | Surface Coating of Paper.
EPA-450/2-77-008 | Surface Coating of Fabric.
EPA-450/2-77-008 | Surface Coating of Automobiles and Light-Duty Trucks.
EPA-450/2-77-022 | Solvent Metal Cleaning.
EPA-450/2-77-025 | Refinery Vacuum Producing Systems, Wastewater Separators, and Process Unit Turnarounds.
EPA-450/2-77-026 | Tank Truck Gasoline Loading Terminals.
EPA-450/2-77-032 | Surface Coating of Metal Furniture.
EPA-450/2-77-033 | Surface Coating of Insulation of Magnet Wire.
EPA-450/2-77-034 | Surface Coating of Large Appliances.
EPA-450/2-77-035 | Bulk Gasoline Plants.
EPA-450/2-77-036 | Storage of Petroleum Liquids in Fixed-Roof Tanks.
EPA-450/2-78-029 | Manufacture of Synthesized Pharmaceutical Products.
EPA-450/2-78-030 | Manufacture of Pneumatic Rubber Tires.
EPA-450/2-78-032 | Factory Surface Coating of Flat Wood Paneling.
EPA-450/2-78-033 | Graphic Arts-Rotogravure and Flexography.
EPA-450/2-78-036 | Leaks from Petroleum Refinery Equipment.
EPA-450/2-78-047 | Petroleum Liquid Storage in External Floating Roof Tanks.
EPA-450/2-78-051 | Leaks from Gasoline Tank Trucks and Vapor Collection Systems.
EPA-450/3-82-009 | Large Petroleum Dry Cleaners.
EPA-450/3-83-006 | Leaks from Synthetic Organic Chemical Polymer and Resin Manufacturing Equipment.
EPA-450/3-83-007 | Leaks from Natural Gas/Gasoline Processing Plants.
EPA-450/3-83-008 | Manufacture of High-Density Polyethylene, Polypropylene, and Polystyrene Resins.
EPA-450/3-84-015 | Air Oxidation Processes in Synthetic Organic Chemical Manufacturing Industry.
EPA-450/4-91-031 | Reactor Processes and Distillation Operations in Synthetic Organic Chemical Manufacturing Industry.
EPA-453/R-96-007 | Wood Furniture Manufacturing Operations.
EPA-453/R-94-032, 61 FR 44050; 8/27/96 | ACT Surface Coating at Shipbuilding and Ship Repair Facilities Shipbuilding and Ship Repair Operations (Surface Coating).
EPA-453/R-97-004, 59 FR 29216; 6/06/94 | Aerospace MACT and Aerospace (CTG & MACT).
EPA-453/R-06-001 | Industrial Cleaning Solvents.
EPA-453/R-06-002 | Offset Lithographic Printing and Letterpress Printing.
EPA-453/R-06-003 | Flexible Package Printing.
EPA-453/R-06-004 | Flat Wood Paneling Coatings.
EPA 453/R-07-003 | Paper, Film, and Foil Coatings.
EPA 453/R-07-004 | Large Appliance Coatings.
EPA 453/R-07-005 | Metal Furniture Coatings.
EPA 453/R-08-004 | Fiberglass Boat Manufacturing Materials.
EPA 453/R-08-005 | Miscellaneous Industrial Adhesives.
EPA 453/R-08-006 | Automobile and Light-Duty Truck Assembly Coatings.

C. What are the deficiencies?

On March 11, 2019,² the EPA provided comments to PCAQCD on the approvability issues in the 2016 RACT SIP and the submitted rules. The following provisions do not satisfy the requirements of section 110 and part D of title I of the Act and prevent full approval of the 2016 RACT SIP and submitted rules.

² Letter dated March 11, 2019, from Doris Lo, Manager, Rules Office, EPA, Region IX, to Michael Sundblom, Director, Pinal County Air Quality Control District, Subject: “RE: EPA Comments on the Pinal County Air Quality Control District Reasonably Available Control Technology (RACT) Analysis, Negative Declaration and Rules Adoption.”

1. 2016 RACT SIP

a. Missing negative declarations for major VOC sources and major NOX sources.

b. Missing negative declaration (or rule) for cutback asphalt.

2. Chapter 5, Article 13—Surface Coating Operations

a. Rule exempts categories that are recommended for regulation by the CTG.

b. One VOC content limit is less stringent than the CTG, and some CTG coating categories and Tables 3 through 6 of the MMPP CTG are not addressed.³

³ The deficiency regarding the lack of coverage for Tables 3 through 6 can be addressed by either modifying Chapter 5, Article 13 to cover these categories of sources, or through a negative declaration for these tables.

c. The emission control system requirements are potentially confusing and should be clarified.

3. Chapter 5, Article 20—Storage and Loading of Gasoline at Gasoline Dispensing Facilities

a. An exemption to verify that a gasoline cargo tank has a valid vapor tightness certification decal prior to loading gasoline is overly broad and challenging to verify or enforce.

b. One section must be reworded to state a prohibition.

Our TSD has additional information on the deficiencies in the RACT SIP and submitted rules.

D. EPA Recommendations To Further Improve the RACT SIP and the Submitted Rules

Our March 11, 2019 comment letter and TSD include recommendations for the next time the local agency modifies the rules. These recommendations would strengthen and improve enforceability of the rules. Our comment letter also includes a recommendation to adopt a negative declaration for the 2016 CTG for the Oil and Natural Gas Industry. Our comment letter and TSD are included in the docket materials.

E. Public Comment and Proposed Action

For the reasons discussed above and explained more fully in our TSD, the EPA proposes to partially approve and partially disapprove the ADEQ's February 3, 2017 submittal of the PCAQCD 2016 RACT SIP as a revision to the Arizona SIP. Under CAA section 110(k)(3), we propose to approve the 2016 RACT SIP, with the exception of major VOC sources, major NOX sources, and the following CTG source categories: Cutback asphalt, MMPP coatings, Gasoline Service Stations, and Surface Coating of Miscellaneous Metal Parts and Products, as satisfying the RACT requirements of CAA section 182(b)(2) and (f) for the Pinal County portion of the Phoenix-Mesa ozone nonattainment areas.

Also under CAA section 110(k)(3), we propose to disapprove the 2016 RACT SIP as it pertains to major VOC sources, major NOX sources, cutback asphalt, and the MMPP coatings CTG (Tables 3 through 6) based on the EPA's finding that these categories were not adequately addressed in the 2016 RACT SIP.

Because the inclusion of Chapter 5, Articles 13 and 20 would strengthen the SIP, we are proposing a limited approval of Chapter 5, Article 13 (excluding 5-13-390) ⁴ and Article 20, as authorized by sections 110(k)(3) and 301(a) of the Act. If finalized, this action would incorporate the submitted rules into the SIP, including those provisions identified as deficient. This approval is limited because the EPA is simultaneously proposing a limited disapproval of Chapter 5, Articles 13 and 20, under section 110(k)(3) based on the stringency and enforceability issues the EPA identified in these rules.

⁴ PCAQCD's SIP submittal explicitly excludes section 5-13-390.

Because Chapter 5, Article 13 is the rule the District submitted in fulfillment of its RACT SIP obligation for the 1978 CTG for Surface Coating of Miscellaneous Metal Parts and Products, and the 2008 CTG for MMPP Coatings (except for Tables 3 through 6), the proposed limited approval and limited disapproval of Chapter 5, Article 13 would not fully satisfy the District's RACT SIP obligation for these two CTG source categories. Once the EPA approves a SIP revision to correct the deficiencies in Chapter 5, Article 13, the District's RACT SIP obligation will be met for the Surface Coating of Miscellaneous Metal Parts and Products CTG, and the MMPP Coatings CTG (except for Tables 3 through 6).⁵ Similarly, because Chapter 5, Article 20 was submitted in fulfillment of the District's RACT SIP obligation for the 1975 Gasoline Service Stations CTG, the proposed limited approval and limited disapproval of this rule would not fully satisfy the District's RACT SIP obligation for this CTG source category. Once the EPA approves a SIP revision to correct the deficiencies in Chapter 5, Article 20, the District's RACT SIP obligation will be met for the Gasoline Service Stations CTG source category.

⁵ We will evaluate how the District addresses the MMPP CTG Tables 3 through 6 in its future submittal. As noted above, the District may either modify Chapter 5, Article 13 to cover these sources, or adopt a negative declaration.

The EPA is committed to working with the ADEQ and PCAQCD to resolve the identified RACT deficiencies. However, should we finalize the proposed partial disapproval of the above-enumerated elements of the 2016 RACT SIP and the limited disapproval of Chapter 5, Articles 13 and 20, the action would trigger a 2-year clock for the federal implementation plan (FIP) requirement under section 110(c). In addition, final disapproval would trigger sanctions under CAA section 179 and 40 CFR 52.31 unless the EPA approves subsequent SIP revisions that correct the deficiencies in the 2016 RACT SIP and two submitted rules within 18 months of the effective date of the final action.

We will accept comments from the public on the proposed partial approval and partial disapproval for the 2016 RACT SIP and the proposed limited approval and limited disapproval for Chapter 5, Articles 13 and 20 until June 12, 2019. If finalized, this action would incorporate the 2016 RACT SIP, negative declarations, and submitted rules into the SIP, including those provisions identified as deficient. Our proposed approval of the submitted rules is limited because the EPA is simultaneously proposing a limited disapproval of the rules under section 110(k)(3).

Note that the submitted rules have been adopted by the PCAQCD, and the EPA's final limited disapproval would not prevent the local agency from enforcing them. The limited disapproval also would not prevent any portion of the rules from being incorporated by reference into the federally enforceable SIP as discussed in a Memorandum dated July 9, 1992, from John Calcagni, Director, Air Quality Management Division, U.S. EPA to EPA Regional Air Directors, Regions I-X, Subject: “Processing of State Implementation Plan (SIP) Submittals,” found at: https://www.epa.gov/sites/production/files/2015-07/documents/procsip.pdf.

III. Incorporation by Reference

In this rule, the EPA is proposing to include in a final EPA rule regulatory text that includes incorporation by reference. In accordance with requirements of 1 CFR 51.5, the EPA is proposing to incorporate by reference the PCAQCD rules described in Table 1 of this preamble. The EPA has made, and will continue to make, these materials available through www.regulations.gov and at the EPA Region IX Office (please contact the person identified in the FOR FURTHER INFORMATION CONTACT section of this preamble for more information).

IV. Statutory and Executive Order Reviews

Additional information about these statutes and Executive Orders can be found at https://www.epa.gov/laws-regulations/laws-and-executive-orders.

A. Executive Order 12866: Regulatory Planning and Review and Executive Order 13563: Improving Regulation and Regulatory Review

This proposed action is not a significant regulatory action and was therefore not submitted to the Office of Management and Budget (OMB) for review.

B. Executive Order 13771: Reducing Regulations and Controlling Regulatory Costs

This proposed action is not an Executive Order 13771 regulatory action because SIP approvals, including limited approvals, are exempted under Executive Order 12866.

C. Paperwork Reduction Act (PRA)

This proposed action does not impose an information collection burden under the PRA because this action does not impose additional requirements beyond those imposed by state law.

D. Regulatory Flexibility Act (RFA)

I certify that this action will not have a significant economic impact on a substantial number of small entities under the RFA. This action will not impose any requirements on small entities beyond those imposed by state law.

E. Unfunded Mandates Reform Act (UMRA)

This proposed action does not contain any unfunded mandate as described in UMRA, 2 U.S.C. 1531-1538, and does not significantly or uniquely affect small governments. This proposed action does not impose additional requirements beyond those imposed by state law. Accordingly, no additional costs to state, local, or tribal governments, or to the private sector, will result from this proposed action.

F. Executive Order 13132: Federalism

This proposed action does not have federalism implications. It will not have substantial direct effects on the states, on the relationship between the national government and the states, or on the distribution of power and responsibilities among the various levels of government.

G. Executive Order 13175: Coordination With Indian Tribal Governments

This proposed action does not have tribal implications, as specified in Executive Order 13175, because the SIP is not approved to apply on any Indian reservation land or in any other area where the EPA or an Indian tribe has demonstrated that a tribe has jurisdiction, and will not impose substantial direct costs on tribal governments or preempt tribal law. Thus, Executive Order 13175 does not apply to this proposed action.

H. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This proposed action is not subject to Executive Order 13045 because it does not impose additional requirements beyond those imposed by state law.

I. Executive Order 13211: Actions That Significantly Affect Energy Supply, Distribution, or Use

This proposed action is not subject to Executive Order 13211, because it is not a significant regulatory action under Executive Order 12866.

J. National Technology Transfer and Advancement Act (NTTAA)

Section 12(d) of the NTTAA directs the EPA to use voluntary consensus standards in its regulatory activities unless to do so would be inconsistent with applicable law or otherwise impractical. The EPA believes that this proposed action is not subject to the requirements of section 12(d) of the NTTAA because application of those requirements would be inconsistent with the CAA.

K. Executive Order 12898: Federal Actions To Address Environmental Justice in Minority Populations and Low-Income Population

The EPA lacks the discretionary authority to address environmental justice in this rulemaking.

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: April 30, 2019.
Michael Stoker,
Regional Administrator, Region IX.

[FR Doc. 2019-09830 Filed 5-10-19; 8:45 am]

BILLING CODE 6560-50-P